DEPARTMENT OF ENERGY

Federal Energy Regulatory Commission

Sunshine Act Notice

April 6, 2005.

The following notice of meeting is published pursuant to section 3(a) of the government in the Sunshine Act (Pub. L. No. 94-409), 5 U.S.C 552b:

AGENCY HOLDING MEETING: Federal Energy Regulatory Commission.

DATE AND TIME: April 13, 2005. 10 a.m.

PLACE: Room 2C, 888 First Street NE., Washington DC 20426.

STATUS: Open.

MATTERS TO BE CONSIDERED: Agenda.

*Note—Items listed on the agenda may be deleted without further notice.

CONTACT PERSON FOR MORE INFORMATION: Magalie R. Salas, Secretary, Telephone (202) 502-8400. For a recorded listing of items stricken from or added to the meeting, call (202) 502-8627.

This is a list of matters to be considered by the Commission. It does not include a listing of all papers relevant to the items on the agenda; however, all public documents may be examined in the Public Reference Room.

886th—Meeting; April 13, 2005; Regular Meeting; 10 a.m.

Administrative Agenda

A-1.

Docket# AD02-1-000, Agency Administrative Matters

A-2.

Docket# AD02-7-000, Customer Matters, Reliability, Security and Market Operations

A-3.

M005-2-000, State of Market Presentations

A-4.

Long Term Transmission Rights in Organized Electricity Markets

A-5.

Report on Information Technology Guidelines for Power System Operations Organizations

Markets, Tariffs, and Rates—Electric

E-1.

Omitted

E-2.

Omitted

E-3.

Omitted

E-4.

Docket# RM05-10-000, Imbalance Provisions for Intermittent Resources

Docket# AD04-13-000, Assessing the State of Wind Energy in Wholesale Electricity Markets

E-5.

Docket# TX05-1-001, TX05-1-002, TX05-1-000, East Kentucky Power Cooperative, Inc.

E-6.

Docket# ER03-753-000, ER03-753-003, Entergy Services, Inc

E-7.

Docket# ER02-2458-002, Midwest Independent Transmission System Operator, Inc.

E-8.

Omitted

E-9.

Docket# EL00-95-000, et al., San Diego Gas and Electric Company v. Sellers of Energy and Ancillary Services Into Markets Operated by the California Independent System Operator Corporation and the California Power Exchange

Docket# EL00-98-000, et al., Investigation of Practices of the California Independent System Operator Corporation and the California Power Exchange

Docket# ER01-889-000, ER01-3013-000, ER03-746-000, California Independent System Operator Corporation

Docket# ER01-1455-000, Mirant California, LLC, Mirant Delta, LLC and Mirant Potrero, LLC

Docket# EL02-60-000, Public Utilities Commission of the State of California v. Sellers of Long Term Contracts to the California Department of Water Resources

Docket# EL02-62-000, California Electricity Oversight Board v. Sellers of Energy and Capacity Under Long-Term Contracts with the California Department of Water Resources

Docket# EL03-158-000, Mirant Americas Energy Marketing, LP, Mirant California, LLC, Mirant Delta, LLC and Mirant Potrero, LLC

Docket# EL03-180-000, Enron Power Marketing, Inc., and Enron Energy Services Inc., et al.

Docket# ER98-495-000, ER98-1614-000, ER98-2145-000, ER99-3603-000, Pacific Gas and Electric Company

Docket# ER03-215-000, ER04-227-000, ER05-343-000, Mirant Delta, LLC and Mirant Potrero, LLC

Docket# ER07-4166-000, Southern Company Energy Marketing, Inc., and Southern Company Services, Inc.

Docket# ER99-1841-000, Southern Energy California, L.L.C.

Docket# ER99-1842-000, Southern Energy Delta, L.L.C.

Docket# ER99-1833-000, Southern Energy Potrero, L.L.C.

Docket# ER01-1265-000, Mirant Americas Energy Marketing, LP

Docket# ER01-1267-000, Mirant California, LLC

Docket# ER01-1270-000, Mirant Delta, LLC

Docket# ER01-1278-000, Mirant Potrero, LLC

Docket# EL02-71-000, State of California ex rel. Bill Lockyer, Attorney General of the State of California v. British Columbia Power Exchange Corp., Coral Power, LLC, Dynegy Power Marketing, Inc., Enron Power Marketing, Inc., Mirant Americas Energy Marketing, Inc., Reliant Energy Services, Inc., Williams Energy Marketing & Trading Co.

Docket# EL01-10-000, Puget Sound Energy, Inc., v. All Jurisdictional Sellers of Energy and/or Capacity in the Pacific Northwest

Docket# PA02-2-000, Fact-Finding Investigation of Potential Manipulation of Electric and Natural Gas Prices

Docket# PA03-8-000, Mirant Americas Energy Marketing, Inc.

Docket# IN03-10-000, Investigation of Anomalous Bidding Behavior and Practices in the Western Markets

E-10.

Docket# ER05-572-000, Niagara Mohawk Power Corporation

Docket# EL05-84-000, New York Independent System Operator, Inc.

E-11.

Docket# ER05-598-000, Dartmouth PPA Holdings LLC

Docket# ER05-599-000, Dartmouth Power Associates L.P.

E-12.

Docket# ER05-595-000, California Independent System Operator Corporation

E-13.

Docket# ER05-597-000, Wayne-White Counties Electric Cooperative

E-14.

Omitted

E-15.

Docket# ER05-617-000, El Segundo Power, LLC

E-16.

Docket# ER05-416-000, ER05-416-001, ER05-416-002, ER05-416-003, California Independent System Operator Corporation

E-17.

Docket# ER02-600-003, Delta Energy Center, LLC

E-18.

Omitted

E-19.

Docket# ER05-613-000, Southern Company Services, Inc.

E-20.

Docket# ER05-581-000, ER05-581-001, Virginia Electric and Power Company

E-21.

Docket# ER01-174-002, ER05-655-000, Lighthouse Energy Trading Company, Inc.

E-22.

Docket# ER01-2636-002, ER01-2636-001, ALLETE, Inc., dba Minnesota Power

Docket# ER00-2177-001, Rainy River Energy Corporation

E-23.

Docket# ER01-2262-005, Frederickson Power L.P.

Docket# ER02-783-003, EPCOR Merchant and Capital (US) Inc.

Docket# ER02-852-003, EPCOR Power Development, Inc.

Docket# ER02-855-003, EPDC, Inc.

E-24.

Docket# ER01-1403-002, FirstEnergy Operating Companies

Docket# ER01-2968-003, ER01-2968-002, FirstEnergy Solutions Corporation

Docket# ER01-845-002, ER01-845-001, FirstEnergy Generation Corporation

Docket# ER04-366-002, Jersey Central Power & Light Company

Docket# ER04-372-002, Metropolitan Edison Company and Pennsylvania Electric Company

Docket# ER99-2330-001, ER99-2330-002, ER99-2330-004, FirstEnergy Corporation

E-25.

Omitted

E-26.

Docket# ER97-324-007, ER97-324-004, ER97-324-008, Detroit Edison Company.

Docket# ER97-3834-010, ER97-3834-012, ER97-3834-013, ER97-3834-014, DTE Energy Trading, Inc.

Docket# ER98-3026-007, ER98-3026-008, ER98-3026-009, DTE Edison America, Inc.

Docket# ER99-3368-004, ER99-3368-003, ER99-3368-005, DTE Energy Marketing, Inc.

Docket# ER00-1746-001, ER00-1746-002, ER00-1746-003, DTE Georgetown, L.P.

Docket# ER00-1816-002, ER00-1816-003, ER00-1816-004, DTE River Rouge No. 1, L.L.C.

Docket# ER02-963-002, ER02-963-004, ER02-963-005, Crete Energy Venture, L.L.C.

E-27.

Docket# ER01-1302-004, American Ref-Fuel Company of Niagara, L.P.

E-28.

Docket# ER00-2173-003, ER00-2173-002, ER00-2173-004, Northern Indiana Public Service Company

Docket# ER00-3219-003, ER00-3219-002, ER00-3219-004, EnergyUSA—TPC Corporation

Docket# ER01-1300-004, ER01-1300-003, ER01-1300-005, Whiting Clean Energy, Inc.

E-29.

Omitted

E-30.

Docket# ER04-1255-001, New England Power Pool and ISO New England Inc.

E-31.

Docket# ER04-539-005, ER04-539-006, ER04-539-007, EL04-121-001, EL04-121-002, EL04-121-000, PJM Interconnection, L.L.C.

E-32.

Omitted

E-33.

Docket# ER02-2595-006, ER02-2595-007, Midwest Independent Transmission System Operator, Inc.

E-34.

Docket# ER02-237-002, ER02-237-003, J. Aron & Company

Docket# ER95-1739-022, Cogentrix Energy Power Marketing, Inc.

Docket# ER03-1151-002, ER03-1151-003, Power Receivable Finance, LLC

Docket# ER01-1819-003, ER01-1819-004, ER05-630-000, Cogentrix Lawrence County, LLC

Docket# ER99-2984-004, Green Country Energy, LLC

Docket# ER02-2026-002, Quachita Power, LLC

Docket# ER99-3320-002, Rathdrum Power, LLC

Docket# ER03-922-003, Southaven Power, LLC

E-35.

Docket# ER04-106-005, Midwest Independent Transmission System Operator, Inc.

E-36.

Docket# ER03-1079-002, ER03-1079-003, Aquila, Inc.

Docket# ER02-47-003, Aquila Long Term, Inc.

Docket# ER95-216-021, ER95-216-022, ER95-216-023, Aquila Merchant Services, Inc.

Docket# ER03-725-003, Aquila Piatt County L.L.C.

Docket# ER02-309-003, MEP Clarksdale Power, LLC

Docket# ER02-1016-001, MEP Flora Power, LLC

ER99-2322-001, ER99-2322-002, ER99-2322-003, MEP Investments, LLC

Docket# ER01-905-001, ER01-905-002, ER01-905-003, MEP Pleasant Hill Operating, LLC

Docket# ER00-1851-001, ER00-1851-002, ER00-1851-003, Pleasant Hill Marketing, LLC

Docket# EL05-83-000 Aquila, Inc., Aquila Long Term, Inc., Aquila Merchant Services, Inc., Aquila Piatt County L.L.C., MEP Clarksdale Power, LLC, MEP Flora Power, LLC, MEP Investments, LLC, MEP Pleasant Hill Operating, LLC, and Pleasant Hill Marketing, LLC

E-37.

Docket# ER99-3693-002, ER99-3693-001, Midwest Generation, LLC

Docket# ER99-666-003, ER99-666-002, EME Homer City Generation, L.P.

Docket# ER99-852-007, ER99-852-006, Edison Mission Marketing & Trading, Inc.

Docket# ER03-30-001, Midwest Generation Energy Services, LLC

Docket# ER99-893-008, ER99-893-007, CP Power Sales Twelve, L.L.C.

Docket# ER99-4229-006, ER99-4229-005, CP Power Sales Seventeen, L.L.C.

Docket# ER99-4228-006, ER99-4228-005, CP Power Sales Nineteen, L.L.C

Docket# ER99-4231-005, ER99-4231-004, CP Power Sales Twenty, L.L.C.

E-38.

Docket# ER98-1150-003, ER98-1150-002, EL05-87-000, Tucson Electric Power Company

E-39.

Docket# ER98-2184-007, AES Huntington Beach, LLC

Docket# ER98-2185-007, AES Alamitos, LLC

Docket# ER98-2186-007, AES Redondo Beach, LLC

Docket# ER00-33-005, AES Placerita, Inc.

Docket# ER00-1026-008, ER00-1026-006, ER00-1026-010, Indianapolis Power & Light Company

Docket# ER02-305-004, Condon Wind Power, LLC

Docket# ER01-2401-002, AES Red Oak, L.L.C.

E-40.

Docket# ER99-830-009, Merrill Lynch Capital Services, Inc.

E-41.

Docket# ER99-845-008 ER99-845-007, ER99-845-006, ER99-845-005, ER99-845-004, EL05-37-001, EL05-37-000, Puget Sound Energy, Inc.

E-42.

Docket# EC04-121-000, American Electric Power Services Corporation and AEP Texas Central Company

E-43.

Docket# TX04-4-000, PacifiCorp

E-44.

Docket# EF04-3031-000, United States Department of Energy—Southeastern Power Administration

E-45.

Omitted

E-46.

Docket# EL05-49-000, Exelon Corporation v. PPL Electric Utilities Corporation and PJM Interconnection, L.L.C.

E-47.

Docket# EL05-65-000, ExxonMobil Chemical Company and ExxonMobil Refining & Supply Company v. Entergy Services, Inc., and Entergy Operating Companies

E-48.

Docket# EL05-55-000, City of Holland, Michigan v. Midwest Independent Transmission System Operator, Inc.

E-49.

Docket# EL05-63-000, DTE Energy Trading, Inc. v. Midwest Independent Transmission System Operator, Inc.

E-50.

Docket# EL00-105-007, City of Vernon, California

Docket# ER00-2019-007, California Independent System Operator Corporation

E-51.

Docket# ER04-810-000, Transalta Centralia Generating, L.L.C.

E-52.

Docket# ER05-123-000, Duke Energy Vermillion, LLC

E-53.

Docket# ER04-377-006, ER04-743-004, Pacific Gas and Electric Company

E-54.

Omitted

E-55.

Omitted

E-56.

Docket# ER99-230-007 Docket# ER03-762-007

Docket# EL05-5-001, Alliant Energy Corporate Services, Inc.

E-57.

Omitted

E-58.

Docket# RM00-7-011, Revision of Annual Charges to Public Utilities (Westar Energy, Inc., and Kansas Gas and Electric Company)

E-59.

Docket# ER05-167-001, California Power Exchange Corporation

Docket# ER02-2234-011, California Power Exchange Corporation

Docket# ER03-139-007, California Power Exchange Corporation

Docket# ER03-791-004, California Power Exchange Corporation

Docket# ER04-111-004, California Power Exchange Corporation

Docket# ER04-785-003, California Power Exchange Corporation

E-60.

Docket# ER05-134-002 Docket# ER05-134-001, ISO New England Inc.

E-61.

Docket# ER96-1551-010

Docket# ER96-1551-011

Docket# ER96-1551-009

Docket# ER96-1551-008

Docket# ER96-1551-007

Docket# ER96-1551-006

Docket# ER01-615-003

Docket# ER01-615-004

Docket# ER01-615-005

Docket# ER01-615-006

Docket# ER01-615-007

Docket# ER01-615-008

Docket# EL05-2-001

Docket# EL05-2-002, Public Service Company of New Mexico

E-62.

Omitted

E-63.

Omitted

E-64.

Omitted

E-65.

Omitted

E-66.

Docket# EL05-20-002, Buckeye Power, Inc.

E-67.

Docket# EL04-135-002, Midwest Independent Transmission System Operator, Inc., PJM Interconnection, L.L.C., and All Transmission Owners Providing Access to Their Transmission Facilities under Midwest Independent Transmission System Operator, Inc. or PJM Interconnection, L.L.C. Tariffs and All Other Public Utility Transmission Owners in These Regions

E-68.

Docket# EL02-45-001, California Independent System Operator Corporation

E-69.

Docket# EC04-81-001, Ameren Corporation, Dynegy Inc., Illinova Corporation and Illinova Generating Company

Docket# ER04-673-001, Dynegy Midwest Generation, Inc. and Dynegy Power Marketing, Inc.

Docket# ER04-711-001, Dynegy Power Marketing, Inc.

E-70.

Docket# EC03-131-001, Docket# EC03-131-002, Oklahoma Gas and Electric Company and NRG McClain LLC

E-71.

Docket# EL00-66-003, Louisiana Public Service Commission and the Council of the City of New Orleans v. Entergy Corporation

Docket# ER00-2854-004, Entergy Services, Inc.

Docket# EL95-33-005, Louisiana Public Service Commission v. Entergy Services Inc.

E-72.

Docket# EL02-115-009, Avista Corporation, Avista Energy, Inc., Enron Power Marketing, Inc., and Portland General Electric Company

E-73.

Omitted

E-74.

Omitted

E-75.

Omitted

Docket# E-76 ER04-691-001

Docket# # ER04-691-006

Docket# ER04-691-009

Docket# ER04-691-010

Docket# ER04-691-019

Docket# ER04-106-003

Docket# ER04-106-004

Docket# ER04-106-005, Midwest Independent Transmission System Operator, Inc.

Docket# EL04-104-001

Docket# EL04-104-005

Docket# EL04-104-008 Docket# EL04-104-009

Docket# EL04-104-018, Public Utilities With Grandfathered Agreements in the Midwest ISO Region

E-77.

Docket# ER04-691-012

Docket# ER04-691-016

Docket# ER04-691-017, Midwest Independent Transmission System Operator, Inc.

Docket# EL04-104-011

Docket# EL04-104-015 Docket# EL04-104-016, Public Utilities With Grandfathered Agreements in the Midwest ISO Region

E-78.

Docket# ER04-691-018

Docket# ER04-691-019, Midwest Independent Transmission System Operator, Inc.

Docket# EL04-104-017

Docket# EL04-104-018, Public Utilities With Grandfathered Agreements in the Midwest ISO Region

E-79.

Omitted

E-80.

Omitted

E-81.

Docket# ER02-2595-005, Midwest Independent Transmission System Inc.

E-82.

Docket# ER04-1165-003, Midwest Independent Transmission System Operator, Inc.

Docket# EL04-43-004, Tenaska Power Services Company v. Midwest Independent Transmission System Operator, Inc.

Docket# EL04-46-004, Cargill Power Markets, LLC v. Midwest Independent Transmission System Operator, Inc.

E-83.

Docket# ER03-683-006, ER03-683-007, California Independent System Operator Corporation

E-84.

Omitted

E-85.

Docket# ER04-458-004, ER04-458-006, Midwest Independent Transmission System Operator, Inc.

E-86.

Docket# ER98-4400-008, ER98-4400-003, ER05-685-000, Pittsfield Generating Company

E-87.

Docket# ER97-2846-003, ER97-2846-004, Progress Energy, Inc.

Docket# ER99-2311-005, Progress Energy Carolina

Docket# ER03-1383-002, DeSoto County Generating Co. LLC

Docket# ER01-2928-005, Progress Ventures Inc.

Docket# ER01-1418-002, Effingham County Power, LLC

Docket# ER02-1238-002, MPC Generating, LLC

Docket# ER01-1419-002, Rowan County Power, LLC

Docket# ER01-1310-003, Walton County Power, LLC

Docket# ER03-398-003, Washington County Power, LLC

E-88.

Docket# PA04-10-000 Florida Power Corporation

Docket# PA04-12-000, Carolina Power & Light Company

Miscellaneous Agenda

M-1.

Docket# RM04-9-001, Electronic Notification of Commission Issuances

Markets, Tariffs, and Rates—Gas

G-1.

Omitted

G-2.

Docket# PR05-3-000, Enogex, Inc.

G-3.

Docket# RP03-604-003, RP03-604-002, RP05-70-001, RP05-70-002, LSP-Cottage Grove, L.P. and LSP-Whitewater Limited Partnership v. Northern Natural Gas Company

G-4.

Docket# RP05-25-001, RP05-25-002, North Baja Pipeline, LLC

G-5.

Docket# RP04-51-001, RP04-51-002, Paiute Pipeline Company

G-6.

Omitted

G-7.

Docket# RP00-107-005, RP00-107-006, Williston Basin Interstate Pipeline Company

G-8.

Docket# RP03-64-003, RP03-64-004, Gulf South Pipeline Company, LP

G-9.

Docket# RP05-105-001, RP04-97-006, RP04-203-003, Equitrans, L.P.

G-10.

Docket# RP02-114-007, Tennessee Gas Pipeline Company

G-11.

Docket# TS05-1-000, Florida Power & Light Company

Docket# TS04-207-001, Guardian Pipeline, Company

Docket# TS04-257-001, Honeoye Storage Corporation

Docket# TS04-209-001, MidWestern Gas Transmission Company

Docket# TS04-62-000, NewCorp Resources Electric Cooperative, Inc.

Docket# TS04-208-001, Northern Border Pipeline Company

Docket# TS04-212-001, Viking Gas Transmission Company

Docket# TS04-253-001, Texas Gas Transmission, L.L.C.

Docket# TS04-249-001, Kinder Morgan Pipelines

Docket# TS04-271-001, Kinder Morgan Pipelines

Docket# TS04-272-001, Kinder Morgan Pipelines

Docket# TS04-107-001, Algonquin Gas Transmission, L.L.C.

Docket# TS04-242-002, Dauphin Island Gathering Partners

Docket# TS04-106-001, East Tennessee Natural Gas, L.L.C.

Docket# TS04-05-001, Egan Hub Storage, L.L.C.

Docket# TS04-161-001, Gulfstream Natural Gas System, L.L.C.

Docket# TS04-159-001, Maritimes & Northeast Pipeline, L.L.C.

Docket# TS04-259-001, Missouri Interstate Gas, LLC

Docket# TS04-154-001, Texas Eastern Transmission, L.P.

Docket# TS04-279-000, Union Gas Limited

G-12.

Docket# IS05-117-000, Enterprise Lou-Tex Propylene Pipeline L.P.

G-13.

Docket# RP04-276-000, Southern Star Central Gas Pipeline, Inc.

G-14.

Omitted

G-15.

Docket# RP02-335-003, RP02-335-004, ANR Pipeline Company

Energy Projects—Hydro

H-1.

Docket# P-10371-008, CPS Products, Inc.

H-2.

Omitted

H-3.

Docket# P-2232-479, Duke Energy Corporation

H-4.

Docket# P-2004-075, Holyoke Gas and Electric Department

Docket# P-11607-002, Holyoke Gas and Electric Department, Ashburnham Municipal Light Plant, and Massachusetts Municipal Wholesale Electric Company

H-5.

Docket# P-12454-002, Energie Group LLC

H-6.

Docket# P-12178-001, Verdant Power, LLC

H-7.

Docket# P-2177-056, Georgia Power Company

H-8.

Docket# P-2612-019, FPL Energy Maine Hydro, LLC

H-9.

Docket# P-10482-065, Mirant NY-GEN LLC.

Energy Projects—Certificates

C-1.

Docket# CP05-8-000, CP05-9-000, CP05-10-000, Starks Gas Storage LLC.

C-2.

Docket# CP01-368-004, Transcontinental Gas Pipe Line Corporation

Docket# CP01-369-002, Williams Gas Processing—Gulf Coast Company, LP.

C-3.

Docket# CP05-37-000, Transcontinental Gas Pipe Line Corporation

C-4.

Docket# CP05-29-000, CP05-30-000, CP05-31-000, Freebird Gas Storage, LLC

C-5.

Docket# CP05-15-000, CP05-16-000, CP05-17-000, Caledonia Energy Partners, L.L.C.

C-6.

Docket# CP02-378-002, Cameron LNG, LLC

C-7.

Docket# CP04-37-000, Corpus Christi LNG, L.P.

Docket# CP04-44-000, CP04-45-000, CP04-46-000, Cheniere Corpus Christi Pipeline Company

C-8.

Docket# CP04-76-001, Equitrans, L.P.

C-9.

Docket# CP04-396-001, Transcontinental Gas Pipe Line Corporation

C-10.

Docket# CP04-121-001, El Paso Natural Gas Company

C-11.

Docket# CP04-60-001, Tennessee Gas Pipeline Company

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

Magalie R. Salas,
Secretary.

[FR Doc. 05-7554 Filed 4-12-05; 11:15 am]

BILLING CODE 6717-01-P